DEPARTMENT OF TRANSPORTATION

Coast Guard

[USCG-2001-10423]

Towing Safety and Merchant Marine Personnel Advisory Committees

AGENCY: Coast Guard, DOT.

ACTION: Notice of meetings.

SUMMARY: The Towing Safety Advisory Committee (TSAC) and the Merchant Marine Personnel Advisory Committee (MERPAC), along with their working groups, will meet jointly to discuss various issues relating to: (1) Shallow-draft inland and coastal waterway navigation and towing safety, and (2) merchant marine personnel, including safety, training, and qualifications. All meetings will be open to the public.

DATES: The Committees will meet on Thursday, September 27, 2001, from 8:30 a.m. to 3:30 p.m. The TSAC working groups on License Implementation, Fire Suppression and Voyage Planning, and Operator Alertness, and the MERPAC working groups will meet on Wednesday, September 26, 2001, from 9 a.m. to 3:30 p.m. Additionally, the TSAC working group on License Implementation will hold a special meeting from 8:30 a.m. to 3:30 p.m. on Tuesday, September 25, 2001. These meetings may close early if all business is finished. Requests to make oral presentations should reach the Coast Guard on or before September 19, 2001. Requests to have a copy of your material distributed to each member of the Committee or working group at the meeting should reach the Coast Guard on or before September 12, 2001. If you would like a copy of your material distributed to each member of the Committee or working group in advance of the meeting, that material must reach the Coast Guard no later than September 7, 2001 or, if submitted by e-mail, no later than September 12, 2001.

ADDRESSES: The Committees will meet in room 2415, U.S. Coast Guard Headquarters, 2100 Second Street, SW., Washington, DC. The Committees and working groups, on Wednesday, will first meet in room 2415 and may move to separate rooms designated at that time. The special meeting, on Tuesday, of the TSAC working group on License Implementation will be held in room 3317 at the same address. Send written material and requests to make oral presentations to Mr. Gerald Miante, Assistant Executive Director of TSAC, or Mr. Mark Gould, Assistant Executive Director of MERPAC, Commandant (G-MSO-1), U.S. Coast Guard Headquarters, 2100 Second Street, SW., Washington, DC 20593-0001. This notice is available on the Internet at http://dms.dot.gov.

FOR FURTHER INFORMATION CONTACT: Mr. Miante or Mr. Gould, telephone 202-267-0229, fax 202-267-4570, or e-mail at: gmiante@comdt.uscg.mil and mgould@comdt.comdt.uscg.mil.

SUPPLEMENTARY INFORMATION: Notice of these meetings is given under the Federal Advisory Committee Act, 5 U.S.C. App. 2.

Agendas of Meetings

The agenda tentatively includes the following:

(1) Introduction of the new Sponsor and Executive Directors and of Chairpersons and members.

(2) Remarks by Sponsor (Rear Admiral Paul Pluta), Committee Chairpersons, and Executive Directors.

(3) Briefing by the Office of Planning and Resources on the G-M Business Plan.

(4) Briefing by Captain Fink on the status of the National Maritime Center (NMC).

(5) Briefing on Marine Transportation Recruiting and Retention.

(6) Project Update on Licensing and Manning for Officers of Towing Vessels and Status report on the Licensing Implementation Working Group.

(7) Project Update on Current Initiatives Regarding Crew Alertness and Status report of the Operator Alertness Working Group.

(8) Project Update on the rulemaking on Fire-Suppression Systems and Voyage Planning for Towing Vessels and Status report of the Working Group.

(9) Status Reports of other working groups, as required, and discussion of other items brought up by the Committees or the public.

Procedural

All meetings are open to the public. Please note that the meetings may close early if all business is finished. At the Chairs' discretion, members of the public may make oral presentations during the meetings. If you would like to make an oral presentation at a meeting, please notify the Assistant Executive Directors no later than September 19, 2001. Written material for distribution at a meeting should reach the Coast Guard no later than September 12, 2001. If you would like a copy of your material distributed to each member of the Committees or working groups in advance of a meeting, please submit 35 copies to the Assistant Executive Directors no later than September 7, 2001; or, you may submit electronic versions, complete and ready for distribution via e-mail to members, by September 12, 2001.

Information on Services for Individuals With Disabilities

For information on facilities or services for individuals with disabilities or to request special assistance at the meetings, contact the Assistant Executive Directors as soon as possible.

Dated: August 16, 2001.
Joseph J. Angelo,
Director of Standards, Marine Safety and Environmental Protection.

[FR Doc. 01-21354 Filed 8-22-01; 8:45 am]

BILLING CODE 4910-15-P